DEPARTMENT OF LABOR

Employment and Training Administration

[TA-W-65,730]

Bridgestone APM Plant 1, Carey, OH; Notice of Termination of Investigation

Pursuant to Section 221 of the Trade Act of 1974, as amended, an investigation was initiated on April 1, 2009 in response to a petition filed by three workers on behalf of the workers at Bridgestone APM Plant 1, Carey, Ohio.

The petitioners requested that the petition be withdrawn. Consequently, the investigation has been terminated.

Signed at Washington, DC, this 20th day of April 2009.
Richard Church,
Certifying Officer, Division of Trade Adjustment Assistance.

[FR Doc. E9-10922 Filed 5-8-09; 8:45 am]

BILLING CODE 4510-FN-P